OFFICE OF MANAGEMENT AND BUDGET

Agency Information Collection Activities: Submission for the Office of Management and Budget (OMB) Review; Comments Requested

AGENCY: Office of Management and Budget (OMB).

ACTION: Notice of the OMB review of information collection and solicitation of public comment.

SUMMARY: The Office of Federal Financial Management, Office of Management and Budget (OMB) has recently submitted to OMB for review the following proposal for collection of information under the Paperwork Reduction Act of 1995 (44 U.S.C. Chapter 35).

DATES: Interested persons are invited to submit comments on or before September 2, 2003.

FOR FURTHER INFORMATION CONTACT: Written comments should be submitted to the Office of Information and Management Affairs, Attention: Lauren Wittenberg via fax at (202) 395-6974 or by email at Lauren_Wittenberg@omb.eop.gov.

SUPPLEMENTARY INFORMATION:

A. Background

In a Federal Register notice published April 8, 2003 [68 FR 17091-17105], OMB proposed consolidating several existing financial reporting forms (the SF-269, 269A, 272 and 272A) into a single financial report to be used by the Federal agencies and grant recipients. The purpose of the consolidated Federal Financial Report (FFR) is to provide grant recipients with a standard format and consistent requirements across agencies in reporting financial information for grants and cooperative agreements. The Federal grant-making agencies, after public consultation with the grantee community, jointly developed this form as part of the implementation of the Federal Financial Assistance Management Improvement Act of 1999 (Pub. L. 106-107).

Based on the nearly 200 comments received, OMB has determined there is a need for further evaluation of the issues involved in implementing the new form. Therefore, OMB has requested that the SF-269, 269A, 272 and 272A be extended while these comments are being considered and addressed. We also recognize that a transition period will be necessary to provide agencies and grantees with time to adapt their processes to the new form and phase out the use of old ones. When the FFR is complete, the SF-269, 269A, 272 and 272A will continue to be accepted for a period of time after the FFR has been approved. OMB will publish a new 60-day notice to solicit comments on the updated FFR and instructions when it is closer to being finalized.

B. Comments and Responses

During the public comment period 198 comments were received. Federal agencies submitted 70 comments. State, local, tribal and nonprofit organizations submitted 115 comments, and universities provided 13 comments. Responses to general concerns expressed in the comments are provided.

Comments received from a number of Federal agencies require further analysis. In many instances, Federal agencies were concerned with the process of automating the form. More analysis needs to be done to understand what changes are needed to Federal payment systems so that they can accept the new form electronically. Sufficient time is needed to ensure the FFR is fully automated before the existing forms are phased out.

Many comments indicated there is a need for further evaluation of the information required and the proposed instructions. Further consideration of these comments is needed to ensure that the form is streamlined and the instructions are simplified in the manner intended by Pub. L. 106-107. OMB will continue to work with the Federal agencies in addressing these concerns.

Sheila O. Conley,
Deputy Controller.

[FR Doc. 03-19511 Filed 7-30-03; 8:45 am]

BILLING CODE 3110-01-P